DEPARTMENT OF COMMERCE

International Trade Administration

[A-583-816]

Certain Stainless Steel Butt-Weld Pipe Fittings from Taiwan: Final Results and Final Rescission in Part of Antidumping Duty Administrative Review

AGENCY: Import Administration, International Trade Administration, Department of Commerce.

SUMMARY: On July 8, 2009, the Department of Commerce (“the Department”) published in the Federal Register the preliminary results of the administrative review of the antidumping duty order on certain stainless steel butt-weld pipe fittings from Taiwan. See Certain Stainless Steel Butt-Weld Pipe Fittings from Taiwan: Preliminary Results of Antidumping Duty Administrative Review and Notice of Intent to Rescind in Part, and Notice of Intent Not to Revoke Order in Part, 74 FR 32532 (July 8, 2009) (“Preliminary Results”). The merchandise covered by the order is certain stainless steel butt-weld pipe fittings from Taiwan as described in the “Scope of the Order” section of this notice. The period of review (“POR”) is June 1, 2007, through May 31, 2008. We provided interested parties an opportunity to comment on our Preliminary Results. Based upon our analysis of the comments received, we made changes to the margin calculation. The final weighted-average dumping margin is listed below in the section titled “Final Results of Review.”

EFFECTIVE DATE: December 16, 2009.

FOR FURTHER INFORMATION CONTACT: John Drury or Angelica Mendoza, AD/CVD Operations, Office 7, Import Administration, International Trade Administration, U.S. Department of Commerce, 14th Street and Constitution Avenue, NW, Washington, DC 20230; telephone: (202) 482-0195 or (202) 482-3019, respectively.

SUPPLEMENTARY INFORMATION:

Background

The Department's preliminary results of review were published on July 8, 2009. See Preliminary Results. We invited parties to comment on the Preliminary Results. We received a case brief from the sole respondent, Ta Chen Stainless Pipe Co., Ltd. (“Ta Chen's Brief”) on August 10, 2009. We did not receive any case or rebuttal briefs from petitioners Flowline Division of Markovitz Enterprises, Inc., Shaw Alloy Piping Products, Inc., Core Pipe (formerly known as Gerlin, Inc.) and Taylor Forge Stainless, Inc.

Revocation

On June 30, 2008, Ta Chen requested, under 19 CFR 351.222(b)(2) and (e), that the antidumping duty order, as it relates to Ta Chen, be revoked based on the absence of dumping, and included with its request certain company certifications regarding revocation. In this case, our margin calculation shows that Ta Chen sold the subject merchandise at less than normal value during the current review period. Additionally, Ta Chen predicates its request on the assumption that action by the Court of International Trade will result in recalculations for the two immediately preceding administrative reviews of margins at zero or de minimis. While we acknowledge that the Department's determinations in the two prior segments of this proceeding are currently in litigation, there is no final and conclusive judgment from any court supporting Ta Chen's arguments or invalidating the Department's findings in the prior administrative reviews. See Preliminary Results at 32533-34. Accordingly, we determine, pursuant to 19 CFR 351.222(b)(2), that revocation of the order with respect to Ta Chen is not warranted.

Scope of the Order

The products subject to the order are certain stainless steel butt-weld pipe fittings, whether finished or unfinished, under 14 inches inside diameter. Certain welded stainless steel butt-weld pipe fittings (“pipe fittings”) are used to connect pipe sections in piping systems where conditions require welded connections. The subject merchandise is used where one or more of the following conditions is a factor in designing the piping system: (1) Corrosion of the piping system will occur if material other than stainless steel is used; (2) contamination of the material in the system by the system itself must be prevented; (3) high temperatures are present; (4) extreme low temperatures are present; and (5) high pressures are contained within the system. Pipe fittings come in a variety of shapes, with the following five shapes the most basic: “elbows,” “tees,” “reducers,” “stub ends,” and “caps.” The edges of finished pipe fittings are beveled. Threaded, grooved, and bolted fittings are excluded from the order. The pipe fittings subject to the order are classifiable under subheading 7307.23.00 of the Harmonized Tariff Schedule of the United States (“HTSUS”). Although the HTSUS subheading is provided for convenience and customs purposes, our written description of the scope of the order is dispositive. Pipe fittings manufactured to American Society of Testing and Materials specification A774 are included in the scope of the order.

Partial Rescission of Review

In the Preliminary Results, the Department issued a notice of intent to rescind the review with respect to Liang Feng Stainless Steel Fitting Co., Ltd. (“Liang Feng”), Tru-Flow Industrial Co., Ltd. (“Tru-Flow”), Censor International Corporation (“Censor”) and PFP Taiwan Co., Ltd. (“PFP”), because we found they had no entries of subject merchandise during the POR. See Preliminary Results at 32533. As the Department received no comments on our intent to rescind, we find that rescission of the review concerning Liang Feng, Tru-Flow, Censor, and PFP is appropriate. Therefore, the Department is rescinding the review with respect to Liang Feng, Tru-Flow, Censor, and PFP.

Analysis of Comments Received

All issues raised in the case brief, as well as the Department's findings, in this administrative review are addressed in the Issues and Decision Memorandum for the Final Results of Antidumping Duty Administrative Review of Certain Stainless Steel Butt-Weld Pipe Fittings from Taiwan (“Decision Memorandum”), dated December 7, 2009, which is hereby adopted by this notice. A list of the issues raised and to which we have responded is found in the Decision Memorandum, appended to this notice. The Decision Memorandum is on file in the Central Records Unit in room 1117 of the main Commerce building, and can also be accessed directly on the Web at http://ia.ita.doc.gov. The paper copy and electronic version of the public version of the Decision Memorandum are identical in content.

Final Results of Review

As a result of our review, we determine that the following weighted-average margin exists for the period June 1, 2007, through May 31, 2008:

Manufacturer | Weighted-Average Margin
Ta Chen Stainless Pipe Co., Ltd | 0.82 percent

Assessment Rates

The Department will determine, and U.S. Customs and Border Protection (“CBP”) shall assess, antidumping duties on all appropriate entries, pursuant to section 751(a)(1)(B) of the Tariff Act of 1930, as amended (“the Act”), and 19 CFR 351.212(b). The Department calculated importer-specific duty assessment rates on the basis of the ratio of the total amount of antidumping duties calculated for the examined sales to the total entered value of the examined sales for that importer. Where the assessment rate is above de minimis, we will instruct CBP to assess duties on all entries of subject merchandise manufactured or exported by Ta Chen. Antidumping duties for the rescinded companies, Liang Feng, Tru-Flow, Censor, and PFP, shall be assessed at rates equal to the cash deposit of estimated antidumping duties required at the time of entry, or withdrawal from warehouse, for consumption, in accordance with 19 CFR 351.212(c)(1)(i). The Department intends to issue appropriate assessment instructions to CBP 15 days after the date of publication of these final results of review.

The Department clarified its “automatic assessment” regulation on May 6, 2003. See Antidumping and Countervailing Duty Proceedings: Assessment of Antidumping Duties, 68 FR 23954 (May 6, 2003). This clarification applies to POR entries of subject merchandise produced by companies examined in this review (i.e., companies for which a dumping margin was calculated) where the companies did not know that their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following cash deposit requirements will be effective upon publication of the final results of this administrative review for all shipments of certain stainless steel butt-weld pipe fittings from Taiwan entered, or withdrawn from warehouse, for consumption on or after the publication date of these final results, as provided by section 751(a) of the Act: (1) for the company covered by this review, the cash deposit rate will be the rate listed above; (2) for merchandise exported by producers or exporters not covered in this review but covered in the less-than-fair-value investigation or a prior review, the cash deposit rate will continue to be the company-specific rate from the most recent review; (3) if the exporter is not a firm covered in this review, a prior review, or the less-than-fair-value investigation, but the producer is, the cash deposit rate will be that established for the most recent period for the producer of the merchandise; and (4) the cash deposit rate for all other producers or exporters will be 51.01 percent, the all-others rate established in the less-than-fair-value investigation. These deposit requirements shall remain in effect until further notice.

Notification to Interested Parties

This notice also serves as a final reminder to importers of their responsibility under 19 CFR 351.402(f) to file a certificate regarding the reimbursement of antidumping duties prior to liquidation of the relevant entries during this review period. Failure to comply with this requirement could result in the Secretary's presumption that reimbursement of antidumping duties occurred, and in the subsequent assessment of double antidumping duties.

Notification Regarding Administrative Protective Orders

This notice also is the only reminder to parties subject to administrative protective order (“APO”) of their responsibility concerning the return or destruction of proprietary information disclosed under APO in accordance with 19 CFR 351.305(a)(3). Timely written notification of the return/destruction of APO materials or conversion to judicial protective order is hereby requested. Failure to comply with the regulations and the terms of an APO is a sanctionable violation.

We are issuing and publishing these results and notice in accordance with sections 751(a)(1) and 777(i)(1) of the Act.

Dated: December 7, 2009.
Carole A. Showers,
Acting Deputy Assistant Secretary for Import Administration.

APPENDIX

Issues in Decision Memorandum

1. Purchased Fittings

2. Calculation of General and Administrative (“G&A”) Expenses

3. Ta Chen's Raw Material and Conversion Cost Variances

4. Constructed Export Price (“CEP”) Offset

5. Basis of Dumping Margin Calculation

6. Calculation of CEP Profit Ratio

[FR Doc. E9-29928 Filed 12-15-09; 8:45 am]

BILLING CODE 3510-DS-S